DEPARTMENT OF COMMERCE

National Oceanic and Atmospheric Administration

Proposed Information Collection; Comment Request; For Hire Telephone Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 11, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to John Foster, (301) 427-8130 or john.foster@noaa.gov.

SUPPLEMENTARY INFORMATION:

I. Abstract

This request is for extension of a currently approved information collection. The For-Hire Telephone Survey (FHTS) is conducted for the National Marine Fisheries Service (NMFS) to estimate fishing effort and catch on for-hire vessels (i.e., charter boats and head boats). These data are required to carry out provisions of the Magnuson-Stevens Fishery Conservation and Management Act (16 U.S.C. 1801 et seq.), as amended, regarding conservation and management of fishery resources.

NOAA Fisheries designed and implemented the FHTS to collect fishing effort information from for-hire vessel representatives through log sheet submission, the internet, or by telephone interview. For-hire vessels are randomly selected for the FHTS from a comprehensive sample frame developed and maintained by NMFS. A sample of 10% of the vessels on the FHTS frame are selected for reporting each week. Each interview collects information about the vessel, the number and type of trips the vessel made during the reporting week, the number of anglers on each trip, and other trip-level information.

The FHTS estimates are combined with estimates derived from independent but complementary surveys of fishing trips, the Access-Point Angler Intercept Survey, to estimate total, state-level fishing catch, by species. These estimates are used in the development, implementation, and monitoring of fishery management programs by the NMFS, regional fishery management councils, interstate marine fisheries commissions, and state fishery agencies.

II. Method of Collection

Information will be collected through telephone interviews using a Computer Assisted Telephone Interviewing (CATI) System. In lieu of telephone interviews, respondents may also provide information by submitting a log sheet or participating in the survey online.

III. Data

OMB Control Number: 0648-0709.

Form Number(s): None.

Type of Review: Regular (extension of a current information collection).

Affected Public: Individuals or households.

Estimated Number of Respondents: 22,000.

Estimated Time per Response: 3½ minutes each for a telephone interview; to complete a response online; and to fax the log sheet.

Estimated Total Annual Burden Hours: 1,283.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 7, 2017.
Sarah Brabson,
NOAA PRA Clearance Officer.

[FR Doc. 2017-14575 Filed 7-11-17; 8:45 am]

BILLING CODE 3510-22-P